DEPARTMENT OF COMMERCE

International Trade Administration

[A-570-028]

Hydrofluorocarbon Blends From the People's Republic of China: Final Results of Antidumping Duty Administrative Review; 2020-2021

AGENCY: Enforcement and Compliance, International Trade Administration, Department of Commerce.

SUMMARY: The U.S. Department of Commerce (Commerce) continues to find that Huantai Dongyue International Trade Co., Ltd. (Huantai Dongyue), Shandong Dongyue Chemical Co., Ltd. (Shandong Dongyue), Zhejiang Yonghe Refrigerant Co., Ltd. (Zhejiang Yonghe), and Zhejiang Sanmei Chemical Ind. Co., Ltd. (Sanmei) made no shipments during the period of review (POR), August 1, 2020, through July 31, 2021. Commerce also continues to find that the remaining companies subject to this administrative review (collectively, the non-responsive parties) are part of the China-wide entity.

DATES: Applicable December 22, 2022.

FOR FURTHER INFORMATION CONTACT: Steven Seifert, AD/CVD Operations, Office II, Enforcement and Compliance, International Trade Administration, U.S. Department of Commerce, 1401 Constitution Avenue NW, Washington, DC 20230; telephone: (202) 482-3350.

SUPPLEMENTARY INFORMATION:

Background

On September 2, 2022, Commerce published the Preliminary Results of this administrative review in the Federal Register and invited comments from interested parties.¹ No interested party submitted comments concerning the Preliminary Results. Accordingly, the final results remain unchanged from the Preliminary Results. Commerce conducted this review in accordance with section 751 of the Tariff Act of 1930, as amended (the Act).

¹ See Hydrofluorocarbon Blends from the People's Republic of China: Preliminary Results of Antidumping Duty Administrative Review and Preliminary Determination of No Shipments; 2020-2021, 87 FR 54192 (September 2, 2022) (Preliminary Results).

Scope of the Order ²

² See Hydrofluorocarbon Blends from the People's Republic of China: Antidumping Duty Order, 81 FR 55436 (August 19, 2016) (Order).

The products subject to the Order are HFC blends. HFC blends covered by the scope are R-404A, a zeotropic mixture consisting of 52 percent 1,1,1-Trifluoroethane, 44 percent Pentafluoroethane, and 4 percent 1,1,1,2-Tetrafluoroethane; R-407A, a zeotropic mixture of 20 percent Difluoromethane, 40 percent Pentafluoroethane, and 40 percent 1,1,1,2-Tetrafluoroethane; R-407C, a zeotropic mixture of 23 percent Difluoromethane, 25 percent Pentafluoroethane, and 52 percent 1,1,1,2-Tetrafluoroethane; R-410A, a zeotropic mixture of 50 percent Difluoromethane and 50 percent Pentafluoroethane; and R-507A, an azeotropic mixture of 50 percent Pentafluoroethane and 50 percent 1,1,1-Trifluoroethane also known as R-507. The foregoing percentages are nominal percentages by weight. Actual percentages of single component refrigerants by weight may vary by plus or minus two percent points from the nominal percentage identified above.³

³ R-404A is sold under various trade names, including Forane® 404A, Genetron® 404A, Solkane® 404A, Klea® 404A, and Suva®404A. R-407A is sold under various trade names, including Forane® 407A, Solkane® 407A, Klea®407A, and Suva®407A. R-407C is sold under various trade names, including Forane® 407C, Genetron® 407C, Solkane® 407C, Klea® 407C and Suva® 407C. R-410A is sold under various trade names, including EcoFluor R410, Forane® 410A, Genetron® R410A and AZ-20, Solkane® 410A, Klea® 410A, Suva® 410A, and Puron®. R-507A is sold under various trade names, including Forane® 507, Solkane® 507, Klea®507, Genetron®AZ-50, and Suva®507. R-32 is sold under various trade names, including Solkane®32, Forane®32, and Klea®32. R-125 is sold under various trade names, including Solkane®125, Klea®125, Genetron®125, and Forane®125. R-143a is sold under various trade names, including Solkane®143a, Genetron®143a, and Forane®125.

Any blend that includes an HFC component other than R-32, R-125, R-143a, or R-134a is excluded from the scope of the Order.

Excluded from the Order are blends of refrigerant chemicals that include products other than HFCs, such as blends including chlorofluorocarbons (CFCs), hydrochlorofluorocarbons (HCFCs), hydrocarbons (HCs), or hydrofluoroolefins (HFOs).

Also excluded from the Order are patented HFC blends, including, but not limited to, ISCEON® blends, including MO99TM (R-438A), MO79 (R-422A), MO59 (R-417A), MO49PlusTM (R-437A) and MO29TM (R-4 22D), Genetron® PerformaxTM LT (R-407F), Choice® R-421A, and Choice® R-421B.

HFC blends covered by the scope of the Order are currently classified in the Harmonized Tariff Schedule of the United States (HTSUS) at subheadings 3824.78.0020 and 3824.78.0050. Although the HTSUS subheadings are provided for convenience and customs purposes, the written description of the scope is dispositive.⁴

⁴ See the Order. Certain merchandise has been the subject of affirmative anti-circumvention determinations by Commerce, pursuant to section 781 of the Tariff Act of 1930, as amended (the Act). As a result, the circumventing merchandise is included in the scope of the Order. See Hydrofluorocarbon Blends from the People's Republic of China: Final Negative Scope Ruling on Gujarat Fluorochemicals Ltd.'s R-410A Blend; Affirmative Final Determination of Circumvention of the Antidumping Duty Order by Indian Blends Containing Chinese Components, 85 FR 61930 (October 1, 2020); Hydrofluorocarbon Blends from the People's Republic of China: Final Scope Ruling on Unpatented R-421A; Affirmative Final Determination of Circumvention of the Antidumping Duty Order for Unpatented R-421A, 85 FR 34416 (June 4, 2020); and Hydrofluorocarbon Blends from the People's Republic of China: Affirmative Final Determination of Circumvention of the Antidumping Duty Order; Unfinished R-32/R-125 Blends, 85 FR 15428 (March 18, 2020).

Final Determination of No Shipments

In the Preliminary Results, Commerce determined that Huantai Dongyue, Shandong Dongyue, Zhejiang Yonghe, and Sanmei had no reviewable shipments of the subject merchandise during the POR.⁵ We received no comments from interested parties with respect to the Preliminary Results and we received no information contradicting them. Therefore, because the record indicates that these companies had no shipments of subject merchandise to the United States during the POR, we continue to find that Huantai Dongyue, Shandong Dongyue, Zhejiang Yonghe, and Sanmei had no reviewable shipments during the POR.

⁵ See Preliminary Results.

China Wide Entity

Aside from Sanmei, Huantai Dongyue, Shandong Dongyue, and Zhejiang Yonghe, which we find made no shipments during the POR, Commerce considers all other companies for which a review was requested to be part of the China-wide entity because they did not demonstrate their separate rate eligibility.⁶ Accordingly, for these final results, we consider all other non-responsive parties, none of which submitted a separate rate application, to be part of the China-wide entity. See the appendix to this notice for a list of these companies.

⁶ See Initiation Notice, 86 FR at 55812 (“All firms listed below that wish to qualify for separate rate status in the administrative reviews involving {non-market economy} countries must complete, as appropriate, either a separate rate application or certification, as described below.”).

Because no party requested a review of the China-wide entity in this review, the entity is not under review, and the entity's rate is not subject to change (i.e., 216.37 percent).⁷

⁷ See Order, 81 FR at 55438.

Assessment Rates

Consistent with Commerce's practice, any suspended entries entered under Huantai Dongyue, Shandong Dongyue, Zhejiang Yonghe, and Sanmei's case numbers will be liquidated at the China-wide entity rate.⁸

⁸ See Non-Market Economy Antidumping Proceedings: Assessment of Antidumping Duties, 76 FR 65694 (October 24, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements for estimated antidumping duties will be effective for all shipments of subject merchandise entered, or withdrawn from warehouse, for consumption on or after the publication date of the final results of this administrative review, as provided by section 751(a)(2)(C) of the Act: (1) for previously investigated or reviewed Chinese or non-Chinese exporters not listed above that received a separate rate in a prior segment of this proceeding, the cash deposit rate will continue to be the existing exporter-specific rate; (2) for all Chinese exporters of subject merchandise that have not been found to be entitled to a separate rate, the cash deposit rate will be that for the China-wide entity (i.e., 216.37 percent); and (3) for all non-Chinese exporters of subject merchandise which have not received their own rate, the cash deposit rate will be the rate applicable to the Chinese exporter that supplied that non-Chinese exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

We are issuing and publishing these final results of administrative review in accordance with sections 751(a)(1) and 777(i) of the Act, and 19 CFR 351.221(b)(5).

Dated: December 16, 2022.
Lisa W. Wang,
Assistant Secretary for Enforcement and Compliance.

Appendix

Companies Part of the China-Wide Entity

1. Changshu 3F Zhonghao New Chemical Materials Co., Ltd.

2. Daikin Fluorochemicals (China) Co., Ltd.

3. Dongyang Weihua Refrigerants Co., Ltd.

4. Electrochemical Factory of Zhejiang Juhua Co., Ltd.

5. Fujian Qingliu Dongying Chemical Ind. Co., Ltd.

6. Hongkong Richmax Ltd.

7. Icool International (Hong Kong) Limited

8. Jiangsu Bluestar Green Technology Co., Ltd.

9. Jiangsu Meilan Chemical Co., Ltd.

10. Jiangsu Sanmei Chemicals Co., Ltd

11. Jinhua Binglong Chemical Technology Co., Ltd.

12. Jinhua Yonghe Fluorochemical Co., Ltd.

13. Liaocheng Fuer New Materials Technology Co., Ltd.

14. Linhai Limin Chemicals Co., Ltd.

15. Ninhua Group Co., Ltd.

16. Puremann, Inc.

17. Ruyuan Dongyangguang Fluorine Co., Ltd.

18. Shandong Huaan New Material Co., Ltd.

19. Shandong Xinlong Science Technology Co., Ltd.

20. Shanghai Aohong Chemical Co., Ltd.

21. Sinochem Environmental Protection Chemicals (Taicang) Co., Ltd.

22. Sinochem Lantian Fluoro Materials Co., Ltd.

23. T.T. International Co., Ltd.

24. Taizhou Huasheng New Refrigeration Material Co., Ltd.

25. Taizhou Qingsong Refrigerant New Material Co., Ltd.

26. Weitron International Refrigeration Equipment (Kunshan) Co., Ltd.

27. Weitron International Refrigeration Equipment Co., Ltd.

28. Zhejiang Fulai Refrigerant Co., Ltd.

29. Zhejiang Guomao Industrial Co., Ltd.

30. Zhejiang Lantian Environmental Protection Fluoro Material Co. Ltd.

31. Zhejiang Lishui Fuhua Chemical Co., Ltd.

32. Zhejiang Organic Fluor-Chemistry Plant

33. Zhejiang Juhua Co., Ltd.

34. Zhejiang Quhua Fluor-Chemistry Co., Ltd.

35. Zhejiang Quhua Juxin Fluorochemical Industry Co., Ltd.

36. Zhejiang Quzhou Juxin Fluorine Chemical Co., Ltd.

37. Zhejiang Quzhou Lianzhou Refrigerants Co., Ltd.

38. Zhejiang Sanmei Chemical Industry Co., Ltd.

39. Zhejiang Zhiyang Chemical Co., Ltd.

40. Zhejiang Zhonglan Refrigeration Technology Co., Ltd.

41. Zibo Feiyuan Chemical Co., Ltd.

[FR Doc. 2022-27882 Filed 12-21-22; 8:45 am]

BILLING CODE 3510-DS-P